DEPARTMENT OF COMMERCE

National Oceanic and Atmospheric Administration

50 CFR Part 679

RIN 0648-BC39

Fisheries of the Exclusive Economic Zone Off Alaska; Groundfish of the Gulf of Alaska; Amendment 95 to the Fishery Management Plan for Groundfish

AGENCY: National Marine Fisheries Service (NMFS), National Oceanic and Atmospheric Administration (NOAA), Commerce.

ACTION: Notification of availability of fishery management plan amendment; request for comments.

SUMMARY: NMFS announces that the North Pacific Fishery Management Council has submitted Amendment 95 to the Fishery Management Plan for Groundfish of the Gulf of Alaska (FMP) for review by the Secretary of Commerce. If approved, Amendment 95 would modify the FMP to: establish halibut prohibited species catch (PSC) limits for the Gulf of Alaska (GOA) in Federal regulation; reduce the GOA halibut PSC limits for trawl and hook-and-line gear; reduce trawl halibut PSC sideboard limits for American Fisheries Act, Amendment 80, and Central GOA Rockfish Program vessels; and provide two additional management measures associated with halibut PSC accounting for Amendment 80 vessels subject to halibut PSC sideboards and for halibut PSC made by trawl vessels from May 15 through June 30, which would maintain groundfish harvest while achieving the halibut PSC limit reductions intended by this action. This action is necessary to reduce halibut bycatch in the GOA, and is intended to promote the goals and objectives of the Magnuson-Stevens Fishery Conservation and Management Act, the FMP, and other applicable law.

DATES: Comments on Amendment 95 must be received on or before October 28, 2013.

ADDRESSES: You may submit comments, identified by FDMS Docket Number NOAA-NMFS-2012-0151, by any one of the following methods:

• Electronic Submissions: Submit all electronic public comments via the Federal eRulemaking Portal. Go to www.regulations.gov/#!docketDetail;D=NOAA-NMFS-2012-0151 click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

Instructions: Comments sent by any other method, to any other address or individual, or received after the end of the comment period, may not be considered by NMFS. All comments received are a part of the public record and will generally be posted for public viewing on http://www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 95 to the FMP, the Regulatory Impact Review (RIR), the Initial Regulatory Flexibility Analysis (IRFA), and the Environmental Assessment (EA), prepared for this action are available from http://www.regulations.gov or from the Alaska Region Web site at http://alaskafisheries.noaa.gov.

FOR FURTHER INFORMATION CONTACT: Rachel Baker or Obren Davis, 907-586-7228.

SUPPLEMENTARY INFORMATION: The Magnuson-Stevens Fishery Conservation and Management Act (Magnuson-Stevens Act) requires that each regional fishery management council submit any fishery management plan amendment it prepares to NMFS for review and approval, disapproval, or partial approval by the Secretary of Commerce (Secretary). The Magnuson-Stevens Act also requires that NMFS, upon receiving a fishery management plan amendment, immediately publish a notice in the Federal Register announcing that the amendment is available for public review and comment. This document announces that proposed Amendment 95 to the FMP is available for public review and comment.

The groundfish fisheries in the exclusive economic zone of Alaska are managed under the GOA FMP and the Fishery Management Plan for Groundfish of the Bering Sea and Aleutian Islands Management Area. These fishery management plans were prepared by the North Pacific Fishery Management Council (Council) under the Magnuson-Stevens Act.

Proposed Amendment 95 would improve management of halibut bycatch, commonly known as halibut PSC, in the GOA. Amendment 95 would (1) Establish halibut PSC limits for the GOA in Federal regulation; (2) reduce the GOA halibut PSC limits for trawl and hook-and-line gear; (3) proportionately reduce trawl halibut PSC sideboard limits for American Fisheries Act (AFA), Amendment 80, and Central GOA Rockfish Program vessels; and (4) modify management measures for halibut PSC sideboard limits for Amendment 80 vessels and for halibut PSC used by trawl vessels from May 15 through June 30. This proposed action is necessary to reduce halibut PSC limits in the GOA groundfish fisheries and to ensure long-term conservation and abundance of halibut for all users.

Recent declines in halibut exploitable biomass, particularly in the GOA, have exacerbated concerns about the amount of halibut PSC taken by the groundfish fisheries because of the potential effect it has on directed commercial, charter, unguided, and subsistence halibut fisheries. Amendment 95 recognizes that the dynamics of the directed and non-directed halibut fisheries have changed significantly since halibut PSC limits were first established. The halibut PSC limit for the GOA trawl has been maintained at, or very near, 2,000 mt since 1989. The 300 mt halibut PSC limit for the non-trawl fisheries has remained unchanged since 1995.

Since the existing GOA halibut PSC limits were established, there have been changes in groundfish and halibut management programs and fishing patterns, environmental conditions, fishing technology, and knowledge of halibut and groundfish stocks. The total biomass and abundance of halibut has varied, and in recent years the stock is experiencing an ongoing decline in size for all ages in all areas. This proposed action is meant to reduce halibut PSC limits to the extent practicable, while at the same time allowing for optimum yield in the GOA groundfish fishery.

Amendment 95 would provide for the establishment of GOA halibut PSC limits in Federal regulation. These limits would be reduced from the current halibut PSC levels for trawl and hook-and-line gear as follows:

• 7 percent reduction for hook-and-line catcher/processors;

• 15 percent reduction phased-in over 3 years for hook-and-line catcher vessels (7 percent the first year, an additional 5 percent the second year, and the final 3 percent the third year);

• 1 metric ton reduction for the hook-and-line demersal shelf rockfish southeast outside district; and

• 15 percent reduction phased-in over 3 years for trawl (7 percent the first year, an additional 5 percent the second year, and the final 3 percent the third year).

Seasonal and gear apportionments of halibut PSC limits would continue to be set through the annual GOA groundfish harvest specifications process. Section 679.21(d)(5) authorizes NMFS to seasonally apportion the halibut PSC limits after consultation with the Council. The GOA FMP and regulations require that the Council and NMFS consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry.

Amendment 95 would provide the trawl and hook-and-line catcher vessel groundfish fleets additional time to individually and collectively adapt to the reduced halibut PSC limits of this proposed action by phasing-in the halibut PSC limits for the trawl and hook-and-line catcher vessel gears with the largest reductions.

Amendment 95 would also maintain the process used to establish annual halibut PSC limits that are applicable to three trawl catch share programs. A variety of halibut PSC use limits, commonly known as sideboard limits, have been implemented to limit the amount of halibut PSC available to specific participants in GOA groundfish fisheries. Sideboard limits serve as fishery-specific limits that require participants subject to the sideboard limit to stop fishing for specific groundfish once that sideboard limit is reached. Sideboard limits were adopted as part of the AFA, Amendment 80, and Central GOA Rockfish catch share programs to prevent program participants from using the flexibility provided by catch share allocations to increase their harvests in fisheries not subject to exclusive allocations. Additional detail on the rationale and calculation for specific sideboard limits in these catch share programs is available in the final rules implementing these catch share programs and is not repeated here (for the AFA see 67 FR 79692, December 30, 2002; for the Amendment 80 Program see 72 FR 52668, September 14, 2007; and for the Central GOA Rockfish Program, see 76 FR 81248, December 27, 2011). This action proposes to reduce the annual trawl PSC limit, which would result in a proportional decrease the halibut PSC sideboard limit apportioned to each of the above three programs.

Finally, Amendment 95 would implement two management measures to current halibut PSC management to mitigate the effects of the proposed halibut PSC reductions. These options would (1) allow the Amendment 80 sector to roll-over unused halibut PSC limits from one season to the subsequent season, and (2) combine management of available trawl halibut PSC limits in the second season deep-water and shallow-water fisheries to be made available for use in either of these fisheries from May 15 through June 30.

Proposed Amendment 95 also replaces all occurrences of the word “bycatch” in the GOA FMP with “PSC” where bycatch actually refers to halibut PSC. This recommended change would clarify the type of bycatch that is referred to in the GOA FMP.

The EA/RIR/IRFA prepared for this action describes the cost and benefits of the halibut PSC reductions, which would be published in Federal regulation as a result of proposed Amendment 95 (see ADDRESSES for availability). Groundfish harvesters may or may not be constrained by this proposed action, depending on the amount of halibut PSC limit that remains available throughout the year. A reduction in harvest by those directly regulated entities constrained by this action would impact revenue generated from the GOA groundfish fisheries.

Public comments are being solicited on proposed Amendment 95 to the GOA FMP through the end of the comment period (see DATES). NMFS intends to publish this action in the Federal Register and seek public comment on a proposed rule that would implement Amendment 95, following NMFS' evaluation of the proposed rule under the Magnuson-Stevens Act. Public comments on the proposed rule must be received by the end of the comment period for Amendment 95 to be considered in the approval/disapproval decision on Amendment 95. All comments received by the end of the comment period on Amendment 95, whether specifically directed to the GOA FMP amendment or the proposed rule will be considered in the FMP approval/disapproval decision. Comments received after that date will not be considered in the approval/disapproval decision on the amendment. To be considered, comments must be received, not just postmarked or otherwise transmitted, by the close of business on the last day of the comment period.

Authority: 16 U.S.C. 773 et seq., 1801 et seq., 3631 et seq.; and Pub. L. 108-447.

Dated: August 23, 2013.
Kelly Denit,
Acting Deputy Director, Office of Sustainable Fisheries, National Marine Fisheries Service.

[FR Doc. 2013-21068 Filed 8-28-13; 8:45 am]

BILLING CODE 3510-22-P